DEPARTMENT OF LABOR

Employment and Training Administration

[TA-W-73,198]

West, a Thomson Reuters Business, Thomson Reuters Legal, Including On-Site Leased Workers From Adecco, Including a Teleworker Located in Albuquerque, NM Reporting to Eagan, MN; Amended Certification Regarding Eligibility To Apply for Worker Adjustment Assistance

In accordance with section 223 of the Trade Act of 1974, as amended (“Act”), 19 U.S.C. 2273, the Department of Labor (Department) issued a Certification of Eligibility to Apply for Worker Adjustment Assistance on June 21, 2010, applicable to workers of West, A Thomson Reuters Legal, including on-site leased workers from Adecco, Eagan, Minnesota. The workers are engaged in activities related to legal, business and regulatory print and electronic information published services. The Department's Notice was published in the Federal Register on July 7, 2010 (75 FR 39048).

At the request of the petitioner, the Department reviewed the certification for workers of the subject firm.

New information shows that a worker separation occurred involving a teleworker (Robert Louie) located in Albuquerque, New Mexico who reported to Eagan, Minnesota. Mr. Louie provided various activities related to legal, business and regulatory print and electronic information publishing services.

Based on these findings, the Department is amending this certification to include an employee of the subject firm who teleworked and reported to the Eagan, Minnesota facility.

The intent of the Department's certification is to include all workers of the subject firm who were adversely affected by a shift in legal, business and regulatory information publishing services to India and the Philippines.

The amended notice applicable to TA-W-73,198 is hereby issued as follows:

All workers of West, A Thomson Reuters Business, Thomson Reuter Legal, including on-site leased workers from Adecco, including a teleworker located in Albuquerque, New Mexico reporting to Eagan, Minnesota, who became totally or partially separated from employment on or after December 30, 2008 through June 21, 2012, and all workers in the group threatened with total or partial separation from employment on date of certification through two years from the date of certification, are eligible to apply for adjustment assistance under Chapter 2 of Title II of the Trade Act of 1974, as amended.

Signed in Washington, DC, this 20th day of July, 2011.
Del Min Amy Chen,
Certifying Officer, Office of Trade Adjustment Assistance.

[FR Doc. 2011-19342 Filed 7-29-11; 8:45 am]

BILLING CODE 4510-FN-P